DEPARTMENT OF TRANSPORTATION

Federal Motor Carrier Safety Administration

49 CFR Parts 385, 386, 390, 392, 393, 396, and Appendix G to Subchapter B of Chapter III

[Docket No. FMCSA-2005-23315]

RIN 2126-AA86

Requirements for Intermodal Equipment Providers and Motor Carriers and Drivers Operating Intermodal Equipment; Reopening of Comment Period

AGENCY: Federal Motor Carrier Safety Administration (FMCSA), DOT.

ACTION: Notice of public listening sessions; reopening of comment period.

SUMMARY: The Federal Motor Carrier Safety Administration (FMCSA) is reopening until May 21, 2007, the comment period on its December 21, 2006 notice of proposed rulemaking (NPRM) concerning inspection, repair and maintenance responsibilities for intermodal equipment providers and motor carriers operating container chassis. The FMCSA is also announcing a series of public listening sessions to obtain additional feedback on the Agency's NPRM from motor carriers, representatives of the intermodal transportation industry, and interested parties. The listening sessions are intended to provide all interested parties an opportunity to respond to the issues associated with this rulemaking. All oral comments will be transcribed and placed in the public docket identified at the beginning of this notice.

DATES: Your comments must be submitted to the docket on or before May 21, 2007.

Dates for the public listening sessions: April 27, 2007, from 10 a.m. to 4:30 p.m., in Norfolk, VA; May 3, 2007, from 9:30 a,m. to 4:30 p.m., in Port Newark, NJ; and May 18, 2007, from 9:30 a.m. to 4:30 p.m., in Long Beach, CA.

ADDRESSES: The April 27, 2007 meeting will be held at the Kirn Memorial Library, 301 East City Hall Avenue, Norfolk, Virginia. The May 3, 2007 meeting will be held at The Seamen's Church Institute, SCI's Seafarers' Center, 118 Export Street, Port Newark, New Jersey. The May 18, 2007 meeting will be held at the Holiday Inn Long Beach Airport, 2640 Lakewood Boulevard, Long Beach, California.

FOR FURTHER INFORMATION CONTACT: Ms Deborah M. Freund, Senior Transportation Specialist, Vehicle and Roadside Operations Division, FMCSA, 400 Seventh Street, SW., Washington, DC 20590. Telephone (202) 366-4009 or e-mail deborah.freund@dot.gov. Office hours are from 8 a.m. to 4:30 p.m., e.t., Monday through Friday, except Federal holidays.

If you wish to make a formal presentation, please contact Ms. Deborah Freund no later than 5 p.m., e.t., 2 business days before the date of the session you will attend. Information on Services for Individuals with Disabilities: For information on facilities or services for individuals with disabilities or to request special assistance at the meeting, please e-mail or telephone Deborah Freund. To request special assistance for one or more of the Listening Sessions, contact Ms. Freund no later than 5 business days before the date of the session.

You may also submit comments to the DOT Docket Management System (DMS), referencing Docket Number FMCSA-2005-23315, using any of the following methods:

• Web Site: http://dms.dot.gov. Follow the instructions for submitting comments on the DOT electronic docket site.

• Fax: 1-202-493-2251. Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., e.t., Monday through Friday, except Federal holidays.

• Federal eRulemaking Portal: Go to http://www.regulations.gov. Follow the online instructions for submitting comments.

Instructions: All submissions must include the Agency name and docket number or Regulatory Identification Number (RIN 2126-AA86) for this rulemaking. Note that all comments received will be posted without change to http://dms.dot.gov including any personal information provided. For additional information on submitting comments, see the Supplemental Information section of this document.

Docket: For access to the docket to read background documents or comments received, go to http://dms.dot.gov at any time or to Room PL-401 on the plaza level of the Nassif Building, 400 Seventh Street, SW., Washington, DC, between 9 a.m. and 5 p.m., e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

SUPPLEMENTARY INFORMATION:

Background

On December 21, 2006 (71 FR 76796), FMCSA published an NPRM to amend the Federal Motor Carrier Safety Regulations (FMCSRs) to address the safety of intermodal equipment (IME) used by motor carriers for transportation of intermodal containers in interstate commerce. As mandated by section 4118 of the Safe, Accountable, Flexible, Efficient Transportation Equity Act: A Legacy for Users (SAFETEA-LU), this rulemaking would require intermodal equipment providers (IEPs) to register and file with FMCSA an Intermodal Equipment Provider Identification Report (Form MCS 150C); display the USDOT Number, or other unique identifier, on each intermodal container chassis offered for transportation in interstate commerce; establish a systematic inspection, repair, and maintenance program to ensure the safe operating condition of each intermodal container chassis; maintain documentation of the program; and provide a means to effectively respond to driver and motor carrier reports about intermodal container chassis mechanical defects and deficiencies.

The proposed regulations would for the first time make IEPs subject to the Federal Motor Carrier Safety Regulations (FMCSRs). The agency is also proposing additional inspection requirements for motor carriers and drivers operating intermodal equipment. The intent of this rulemaking is to ensure that intermodal equipment used to transport intermodal containers is safe and systematically maintained. Improved maintenance is expected to result in fewer out-of-service orders and highway breakdowns involving intermodal chassis and improved efficiency of the Nation's intermodal transportation system. To whatever extent inadequately maintained intermodal chassis are responsible for, or contribute to, crashes, this proposal would also help to ensure that commercial motor vehicle (CMV) operations are safer.

Purpose of the Listening Session

The FMCSA is committed to providing all interested parties an opportunity to discuss their perspectives on the pertinent issues that could affect any potential rulemaking changes. The Agency has received numerous comments in response to its NPRM but believes additional information could be obtained through these listening sessions.

Participants at the listening sessions will be given the opportunity to submit questions that they would like to hear discussed by others in attendance. FMCSA encourages persons who have prepared statements to submit them to the public docket rather than use time at a listening session to read them aloud. Persons who wish to submit written comments or statements should submit the information to the public docket identified in this notice. Those who desire notification of receipt of their comments must include a self-addressed, stamped envelope or postcard. Comments made during the meeting will be transcribed to preserve an accurate record of the discussion.

Issued on: April 10, 2007.
Larry W. Minor,
Acting Associate Administrator, Policy and Program Development.

[FR Doc. 07-1865 Filed 4-11-07; 12:48 pm]

BILLING CODE 4910-EX-P